DEPARTMENT OF THE INTERIOR

National Park Service

Native American Graves Protection and Repatriation Review Committee: Meetings

AGENCY: National Park Service, Interior.

ACTION: Notice.

Notice is hereby given in accordance with the Federal Advisory Committee Act (FACA), 5 U.S.C. Appendix (1988), that meetings of the Native American Graves Protection and Repatriation Review Committee will be held on December 11, 12, and 13, 2000, in Nashville, TN, and May 31, June 1 and 2, 2001, in Kelseyville, CA.

December 11, 12, and 13, 2000 Meeting

The Committee will meet at the Sheraton Music City Hotel; telephone: (615) 885-2200, fax: (615) 231-1134, located at 777 McGavock Pike at Century City, Nashville, TN.

The agenda for the December meeting will include Federal agency compliance reports.

A block of lodging rooms has been set aside at the Sheraton Music City Hotel at a significantly reduced rate. Reservations must be booked by November 10, 2000, to guarantee the reduced rate. Please reference the National Park Service and mention that you are attending the NAGPRA Review Committee Meeting.

Meetings will begin at 8:30 a.m. and will end no later than 5:00 p.m. each day. The meeting will be open to the public. However, facilities and space for accommodating members of the public are limited. Persons will be accommodated on a first-come, first-served basis.

Persons wishing to make a presentation to the Committee should submit a request to do so by November 10, 2000. Please submit a written abstract of your presentation and your contact information. Any member of the public also may file a written statement for consideration by the Committee by November 24, 2000. Both written requests and statements should be addressed to the Committee in care of the Assistant Director, Cultural Resources Stewardship and Partnerships.

Persons wishing further information concerning this meeting, or who wish to submit written statements may contact Mr. John Robbins, Assistant Director, Cultural Resources Stewardship and Partnerships, 1849 C Street NW. 350 NC, Washington, DC 20240; telephone: (202) 343-3387; facsimile: (202) 343-5260. Transcripts of the meeting will be available for public inspection approximately eight weeks after the meeting at the office of the Assistant Director, Cultural Resources Stewardship and Partnerships, 800 North Capitol Street NW. Suite 350, Washington, DC 20013; email: John_Robbins@nps.gov .

May 31, June 1 and 2, 2001 Meeting

The Committee will meet at Konocti Harbor Resort and Spa; telephone: (707) 279-4281, fax: (707) 279-8575, located at 8727 Soda Bay Road, Kelseyville, CA. Additional information regarding specific agenda items and reservation details will be published at least 90 days prior to the meeting. The Native American Graves Protection and Repatriation Review Committee was established by Public Law 101-601 to monitor, review, and assist in implementation of the inventory and identification process and repatriation activities required under the Native American Graves Protection and Repatriation Act.

Dated: June 19, 2000.
John Robbins,
Assistant Director, Cultural Resources Stewardship and Partnerships.

[FR Doc. 00-17524 Filed 7-11-00; 8:45 am]

BILLING CODE 4310-70-F